Title 3—

The President

Executive Order 13463 of April 18, 2008

Amending Executive Orders 13389 and 13390

By the authority vested in me as President by the Constitution and the laws of the United States of America, including the Robert T. Stafford Disaster Relief and Emergency Assistance Act, as amended (42 U.S.C. 5121-5206), it is hereby ordered as follows:

Section 1. Executive Order 13389 of November 1, 2005, as amended, is further amended:

(a) in subsection 2(a), by striking “Economic Policy” and inserting in lieu thereof “Homeland Security and Counterterrorism”; and

(b) in section 5, by striking “3 years from the date of this order” and inserting in lieu thereof “February 28, 2009”.

Sec. 2. Subsection 5(b) of Executive Order 13390 of November 1, 2005, is amended:

(a) by striking the comma after “applicable law” and inserting “and”; and

(b) striking “3 years from the date of this order” and inserting in lieu thereof “February 28, 2009”.

THE WHITE HOUSE,

April 18, 2008.

[FR Doc. 08-1182

Filed 4-22-08; 8:34 am]

Billing code 3195-01-P